DEPARTMENT OF LABOR

Employment and Training Administration

[TA-W-37,607 and TA-W-37,607A]

Henry I. Siegel Co., Inc., Now Known as Durango Apparel Manufacturing, Inc., Bruceton, TN and New York, NY; Amended Certification Regarding Eligibility to Apply for Worker Adjustment Assistance

In accordance with section 223 of the Trade Act of 1974 (19 USC 2273) the Department of Labor issued a Certification of Eligibility to Apply for Worker Adjustment Assistance on May 16, 2000, applicable to workers of Henry I. Siegel Co., Inc., Bruceton, Tennessee. The notice was published in the Federal Register on June 8, 2000 (65 FR 36469).

At the request of the petitioners, the Department reviewed the certification for workers of the subject firm. The workers are engaged in the production of men's and women's jeans, slacks and shorts. Findings show that the Department incorrectly set the worker certification impact date at April 30, 2000 for the New York, New York location. The impact date should be June 30, 1999, one year prior to the date of the petition.

Accordingly, the Department is amending the certification to properly reflect this matter.

The amended notice applicable to TA-W-37,607 and TA-W-37,607A is hereby issued as follows:

“All workers of Henry I. Siegel Co., Inc., now known as Durango Apparel Manufacturing, Inc., Bruceton, Tennessee (TA-W-37,607) who became totally or partially separated from employment on or after April 30, 2000 through May 16, 2002 and “all workers of Henry I. Siegel Co., Inc. now known as Durango Apparel Manufacturing, Inc., New York, New York (TA-W-37,607A) who became totally or partially separated from employment on or after June 30, 1999 through May 16, 2002 are eligible to apply for adjustment assistance under Section 223 of the Trade Act of 1974.”

Signed at Washington, DC this 4th day of October, 2000.
Linda G. Poole,
Certifying Officer, Division of Trade Adjustment Assistance.

[FR Doc. 00-26724 Filed 10-17-00; 8:45 am]

BILLING CODE 4510-30-M